DEPARTMENT OF TRANSPORTATION

Federal Motor Carrier Safety Administration

49 CFR Parts 350, 365, 385, 386, 387, and 395

[Docket No. FMCSA-2022-0003]

RIN 2126-AC52

Safety Fitness Determinations

AGENCY: Federal Motor Carrier Safety Administration (FMCSA), Department of Transportation (DOT).

ACTION: Advance notice of proposed rulemaking (ANPRM); extension of comment period.

SUMMARY: FMCSA extends the comment period for its August 29, 2023, ANPRM requesting public comment on the need for a rulemaking to revise the regulations prescribing the safety fitness determination (SFD) process; the available science or technical information to analyze regulatory alternatives for determining the safety fitness of motor carriers; feedback on the Agency's current SFD regulations, including the process and impacts; the available data and costs for regulatory alternatives reasonably likely to be considered as part of this rulemaking; and the specific questions in the ANPRM. FMCSA extends the comment period for 30 days until November 29, 2023.

DATES: The comment period for the proposed rule published August 29, 2023, at 88 FR 59489, is extended. Comments should be received on or before November 29, 2023.

ADDRESSES: You may submit comments identified by Docket Number FMCSA-2022-0003 using any of the following methods:

• Federal eRulemaking Portal: Go to https://www.regulations.gov/docket/FMCSA-2022-0003/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Ms. Stacy Ropp, (609) 661-2062, SafetyFitnessDetermination@dot.gov. If you have questions on viewing or submitting material to the docket, call Dockets Operations at (202) 366-9826.

SUPPLEMENTARY INFORMATION:

I. Public Participation and Request for Comments

A. Submitting Comments

If you submit a comment, please include the docket number for the ANPRM (FMCSA-2022-0003) and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/document/FMCSA-2022-0003-0005, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the ANPRM contain commercial or financial information that is customarily treated as private, that you actually treat as private, and that is relevant or responsive to the ANPRM, it is important that you clearly designate the submitted comments as CBI. Please mark each page of your submission that constitutes CBI as “PROPIN” to indicate it contains proprietary information. FMCSA will treat such marked submissions as confidential under the Freedom of Information Act, and they will not be placed in the public docket of the ANPRM. Submissions containing CBI should be sent to Mr. Brian Dahlin, Chief, Regulatory Evaluation Division, Office of Policy, FMCSA, 1200 New Jersey Avenue SE, Washington, DC 20590-0001 at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2022-0003/document and choose the document to review. To view comments, click the ANPRM, then click “Browse Posted Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 49 U.S.C. 13301(a) and 5 U.S.C. 553(c), DOT solicits comments from the public to better inform its regulatory process. DOT posts these comments, without edit, including any personal information the commenter provides, to www.regulations.gov. As described in the system of records notice DOT/ALL 14 (Federal Docket Management System (FDMS)), which can be reviewed at https://www.transportation.gov/individuals/privacy/privacy-act-system-records-notices, the comments are searchable by the name of the submitter.

II. Background

FMCSA published an ANPRM on August 29, 2023, with a comment deadline of October 30, 2023 (88 FR 59489). That ANPRM discussed current SFD procedure, the 2016 notice of proposed rulemaking (NPRM),¹ relevant legislation, and the status of the Safety Measurement System Program, and it requested answers to twelve specific questions along with other public comment.

¹ On January 21, 2016, FMCSA published in the Federal Register an NPRM titled “Carrier Safety Fitness Determination” (81 FR 3562, available at https://www.regulations.gov/document/FMCSA-2015-0001-0076). That NPRM proposed SFDs based on the carrier's on-road safety data; an investigation; or a combination of on-road safety data and investigation information.

As of October 10, 2023, three commenters to the docket filed comments requesting extensions of the comment period: The American Trucking Associations (ATA)(https://www.regulations.gov/comment/FMCSA-2022-0003-0014), the Commercial Vehicle Safety Alliance (CVSA) (https://www.regulations.gov/comment/FMCSA-2022-0003-0016), and the American Bus Association (ABA) (https://www.regulations.gov/comment/FMCSA-2022-0003-0015).

ATA and CVSA requested 30-day extensions, and the ABA requested a 60-day extension. These associations cited the “complexity and breadth” of questions, and the timing of the request. ATA specifically cited a conference occurring towards the end of the current comment period at which it planned to solicit input from its members.

The comment period for the ANPRM is scheduled to close on October 30, 2023. FMCSA believes it is in the public interest to allow for public comment for an extended period. Accordingly, FMCSA extends the comment period for all comments on the ANPRM and its related documents for 30 days, until November 29, 2023.

Issued under authority delegated in 49 CFR 1.87.
Larry W. Minor,
Associate Administrator, Office of Policy.

[FR Doc. 2023-23303 Filed 10-20-23; 8:45 am]

BILLING CODE 4910-EX-P